DEPARTMENT OF COMMERCE

Foreign-Trade Zones Board

[Order No. 2008]

Expansion of Foreign-Trade Zone 225 Under Alternative Site Framework Springfield, Missouri

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the City of Springfield Airport Board, grantee of Foreign-Trade Zone 225, submitted an application to the Board (FTZ Docket B-51-2015, docketed August 10, 2015, amended February 19, 2016) for authority to expand the zone under the ASF to include a new magnet site (proposed Site 4) in Neosho, Missouri, adjacent to the Springfield Customs and Border Protection port of entry;

Whereas, notice inviting public comment was given in the Federal Register (80 FR 48806-48807, August 14, 2015) and the amended application has been processed pursuant to the FTZ Act and the Board's regulations; and,

Whereas, the Board adopts the findings and recommendation of the examiner's report, and finds that the requirements of the FTZ Act and the Board's regulations are satisfied;

Now, Therefore, the Board hereby orders:

The amended application to expand FTZ 225 under the ASF is approved, subject to the FTZ Act and the Board's regulations, including Section 400.13, to the Board's standard 2,000-acre activation limit for the zone, and to an ASF sunset provision for magnet sites that would terminate authority for Site 4 if not activated within five years from the month of approval.

Signed at Washington, DC, this 29th day of July, 2016.
Ronald K. Lorentzen,
Acting Assistant Secretary of Commerce for Enforcement and Compliance, Alternate Chairman, Foreign-Trade Zones Board.

[FR Doc. 2016-18791 Filed 8-8-16; 8:45 am]

BILLING CODE 3510-DS-P